DEPARTMENT OF HOMELAND SECURITY

National Protection and Programs Directorate, Office of Infrastructure Protection; Submission for Review Critical Infrastructure/Key Resources Private Sector Clearance Program (CIKR PSCP) 1670-NEW

AGENCY: National Protection and Programs Directorate, Office of Infrastructure Protection, Partnership and Outreach Division, Partnership Programs and Information Sharing Office.

ACTION: 60-Day Notice and request for comments.

SUMMARY: The Department of Homeland Security (DHS) invites the general public and other federal agencies the opportunity to comment on new information collection request 1670-NEW, Critical Infrastructure/Key Resources Private Sector Clearance Program (CIKR PSCP) Clearance Request. As required by the Paperwork Reduction Act of 1995, (Pub. L. 104-13, 44 U.S.C. chapter 35) as amended by the Clinger-Cohen Act (Pub. L. 104-106), DHS is soliciting comments for this collection.

DATES: Comments are encouraged and will be accepted until May 9, 2008. This process is conducted in accordance with 5 CFR 1320.1.

ADDRESS: Comments and questions about this Information Collection Request should be forwarded to the Department of Homeland Security, National Protection and Programs Directorate, Partnership and Outreach Division, Critical Infrastructure/Key Resources Clearance Program (CIKR PSCP), Attn: Michael Schooler, Ballston 1, 3rd Floor, Arlington, VA 22201.

FOR FURTHER INFORMATION CONTACT: Department of Homeland Security, National Protection and Programs Directorate, Partnership and Outreach Division, Critical Infrastructure/Key Resources Private Sector Clearance Program (CIKR PSCP), Attn: Michael Schooler, michael.schooler@dhs.gov or 703-235-3660. This is not a toll free number.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Partnership and Outreach Division.

Title: CIKR PSCP Clearance Request Form.

OMB Number: 1670-NEW.

Frequency: Once.

Affected Public: Private Sector.

Number of Respondents: 250 responses per year.

Estimated Time per Respondent: 10 minutes.

Total Burden Hours: 42 hours.

Total Burden Cost (capital/startup): None.

Total Burden Cost (operating/maintaining): None.

Description: The Critical Infrastructure/Key Resources Private Sector Clearance Program (CIKR PSCP) is designed to provide private sector individuals clearances so that they can be partners with DHS. These partners are subject matter experts within specific industries and sectors. DHS has created this program to facilitate granting clearances to appropriate individuals. The CIKR PSCP requires individuals to complete a clearance request form that initiates the clearance process. Individuals are selected and then invited to become partners with DHS for a specific project or task. DHS Sector Specialists or Protective Security Advisors email the form to the individual who emails back the completed form. The data from these forms make up the Master Roster. The Name, Social Security Number, Date of Birth and Place of Birth are entered into e-QIP—Office of Personnel Management's secure portal for investigation processing. Once the data is entered in e-QIP by the DHS Office of Security, Personnel Security Division then the applicant can complete the rest of the e-QIP security questionnaire. The CIKR PSCP Master Roster contains all the information found on the clearance request form in addition to their clearance info (date granted, level, date non-disclosure agreements signed.) The Administrator of the Master Roster maintains the information so as to track clearance processing and investigation information (date of investigation) and to have the most current contact information for the participants from each sector.

Dated: February 29, 2008.
Charlie Church,
Chief Information Officer, National Protection and Programs Directorate, Department of Homeland Security.

[FR Doc. E8-4605 Filed 3-7-08; 8:45 am]

BILLING CODE 4410-10-P